DEPARTMENT OF LABOR

Office of the Secretary

Agency Information Collection Activities; Submission for OMB Review; Comment Request; Nondiscrimination Compliance Information Reporting Under the Workforce Investment Act of 1998

ACTION: Notice.

SUMMARY: On July 31, 2014, the Department of Labor (DOL) will submit the Office of the Assistant Secretary for Administration and Management (OASAM) sponsored information collection request (ICR) revision titled, “Nondiscrimination Compliance Information Reporting Under the Workforce Investment Act of 1998,” to the Office of Management and Budget (OMB) for review and approval for use in accordance with the Paperwork Reduction Act (PRA) of 1995 (44 U.S.C. 3501 et seq.). Public comments on the ICR are invited.

DATES: The OMB will consider all written comments that agency receives on or before September 2, 2014.

ADDRESSES: A copy of this ICR with applicable supporting documentation; including a description of the likely respondents, proposed frequency of response, and estimated total burden may be obtained free of charge from the RegInfo.gov Web site at http://www.reginfo.gov/public/do/PRAViewICR?ref_nbr=201404-1225-001 (this link will only become active on August 1, 2014) or by contacting Michel Smyth by telephone at 202-693-4129, TTY 202-693-8064 (these are not toll-free numbers) or sending an email to DOL_PRA_PUBLIC@dol.gov.

Submit comments about this request by mail or courier to the Office of Information and Regulatory Affairs, Attn: OMB Desk Officer for DOL-DM, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129, TTY 202-693-8064, (these are not toll-free numbers) or sending an email to DOL_PRA_PUBLIC@dol.gov.

Authority: 44 U.S.C. 3507(a)(1)(D).

SUPPLEMENTARY INFORMATION: This ICR seeks approval under the PRA for a revision to the Nondiscrimination Compliance Information Reporting Under the Workforce Investment Act of 1998 (WIA) information collection that provides data used to help ensure a recipient of DOL Federal financial assistance does not discriminate in the administration, management, or operation of programs and activities. Information collections covered by this ICR include (1) a grant applicant providing assurance that the applicant is aware of and, as a condition of receipt of Federal financial assistance, agrees to comply with the assurance requirements; (2) a DOL funds recipient maintaining a record of equal opportunity (EO) characteristics data and a log of any EO complaints for activities under a DOL funded WIA program; (3) a person who believes a relevant EO requirement may have been violated filing a complaint with either the funds recipient or with the DOL, Civil Rights Center; (4) a State periodically filing a plan outlining administrative methods the State will use to ensure WIA funds are not used in a discriminatory manner; and (5) a DOL funds recipient posting required notices. This information collection has been classified as a revision, because the DOL wants to make a minor change to the Complaint Information Form (Form DL-1-2014A) to clarify the information requested. WIA section 185 authorizes this information collection. See 29 U.S.C. 2935.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1225-0077. The current approval is scheduled to expire on July 31, 2014; however, the DOL notes that existing information collection requirements submitted to the OMB receive a month-to-month extension while they undergo review. New requirements would only take effect upon OMB approval. For additional substantive information about this ICR, see the related notice published in the Federal Register on April 17, 2014 (79 FR 21809).

Interested parties are encouraged to send comments to the OMB, Office of Information and Regulatory Affairs at the address shown in the ADDRESSES section by September 2, 2014. In order to help ensure appropriate consideration, comments should mention OMB Control Number 1225-0077. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Title of Collection: Nondiscrimination Compliance Information Reporting Under the Workforce Investment Act of 1998.

OMB Control Number: 1225-0077.

Affected Public: State, Local, and Tribal Governments; Private Sector—businesses or other for-profits and not-for-profit institutions; and Individuals or Households.

Total Estimated Number of Respondents: 2,911.

Total Estimated Number of Responses: 32,046,366.

Total Estimated Annual Time Burden: 180,458 hours.

Total Estimated Annual Other Costs Burden: $0.

Dated: July 23, 2014.
Michel Smyth,
Departmental Clearance Officer.

[FR Doc. 2014-17862 Filed 7-29-14; 8:45 am]

BILLING CODE 4510-23-P